FEDERAL COMMUNICATIONS COMMISSION

47 CFR Part 73

[DA 01-1735; MM Docket No. 97-178; RM-8329, RM-8739, RM-10099]

Radio Broadcasting Services; West Hurley, Rosendale and Rhinebeck, NY, and North Canaan and Sharon, CT

AGENCY: Federal Communications Commission.

ACTION: Final rule.

SUMMARY: At the request of the State University of New York, this document allots Channel 273A* to Rhinebeck, New York. This allotment will be reserved for noncommercial educational use. To accommodate Channel 273A* at Rhinebeck, this document also substitutes Channel 255A for vacant Channel 273A at Rosendale, New York. See 62 FR 44436, published August 21, 1997. This document denies a competing request for a Channel 277A* allotment at North Canaan, Connecticut. The reference coordinates for the Channel 255A allotment at Rosendale, New York, are 41-54-57 and 73-53-54. The reference coordinates for the Channel 273A* allotment at Rhinebeck, New York, are 41-54-57 and 73-53-54.

DATES: Effective September 4, 2001.

FOR FURTHER INFORMATION CONTACT: Robert Hayne, Mass Media Bureau, (202) 418-2177.

SUPPLEMENTARY INFORMATION: This is a synopsis of the Commission's Report and Order in MM Docket No. 97-178, adopted July 11, 2001, and released July 20, 2001. The full text of this decision is available for inspection and copying during normal business hours in the FCC's Reference Information Center at Portals II, CY-A257, 445 12th Street, SW., Washington, DC. The complete text of this decision may also be purchased from the Commission's copy contractor, International Transcription Service, Inc., (202) 857-3800, 1231 20th Street, NW., Washington, DC 20036.

List of Subjects in 47 CFR Part 73

Radio Broadcasting.

Part 73 of Title 47 of the Code of Federal Regulations is amended as follows:

PART 73—RADIO BROADCAST SERVICES

1. The authority citation for Part 73 continues to read as follows:

Authority: 47 U.S.C. 154, 303, 334, 336.

§ 73.202 [Amended]

2. Section 73.202(b), the Table of FM Allotments under New York, is amended by removing Channel 273A Rosendale.

3. Section 73.202(b), the Table of FM Allotments under New York, is amended by adding Channel 255A at Rosendale.

4. Section 73.202(b), the Table of FM Allotments under New York, is amended by adding Rhinebeck, Channel 273A*.

Federal Communications Commission.
John A. Karousos,
Chief, Allocations Branch, Policy and Rules Division, Mass Media Bureau.

[FR Doc. 01-18958 Filed 7-30-01; 8:45 am]

BILLING CODE 6712-01-U